DEPARTMENT OF JUSTICE

Parole Commission

[6P04091]

Public Announcement; Sunshine Act Meeting

Pursuant To The Government In the Sunshine Act (Pub. L. 94-409) [5 U.S.C. Section 552b].

Agency Holding Meeting: Department of Justice, United States Parole Commission.

Date And Time: 12 p.m., Tuesday, May 13, 2008.

Place: U.S. Parole Commission, 5550 Friendship Boulevard, 4th Floor, Chevy Chase, Maryland 20815.

Status: Closed.

Matters Considered: The following matter will be considered during the closed portion of the Commission's Business Meeting:

Petition for reconsideration involving four original jurisdiction cases pursuant to 28 CFR 2.27.

Agency Contact: Thomas W. Hutchison, Chief of Staff, United States Parole Commission, (301) 492-5990.

Dated: May 5, 2008.
Rockne J. Chickinell,
General Counsel, U.S. Parole Commission.

[FR Doc. E8-10407 Filed 5-12-08; 8:45 am]

BILLING CODE 4410-31-M